SMALL BUSINESS ADMINISTRATION

13 CFR Part 121

RIN 3245-AE07

Small Business Size Regulations; Size Standards and the North American Industry Classification System; Amendment

AGENCY: Small Business Administration (SBA).

ACTION: Correcting Amendment.

SUMMARY: This amendment corrects the small business size standard for North American Industry Classification System (NAICS) code 482111, Line-Haul Railroads. The correct size standard is 1,500 employees. This is a technical correction to the final rule correction that the Small Business Administration (SBA) published in the Federal Register on September 5, 2000.

DATES: Effective on April 23, 2002.

FOR FURTHER INFORMATION CONTACT: Carl Jordan, Office of Size Standards, (202) 205-6618.

SUPPLEMENTARY INFORMATION: SBA published what it believed was a corrected table of small business size standards based on industries as they are defined in NAICS on September 5, 2000 (65 FR 53533-53558). That table updated and replaced the table included in the final rule SBA published in the Federal Register on May 15, 2000 (65 FR 30836-30863). The table of size standards in the May 15, 2000, final rule included a number of errors that occurred during the printing process. Because the errors were significant in nature and number, SBA believed that merely listing the corrections was not sufficient. Therefore, on September 5, 2000, SBA published the new table to replace the table found in the May 15, 2000, final rule.

Corrected NAICS 482111

This amendment corrects the size standard for NAICS 482111, Line-Haul Railroads. The May 15, 2000, final rule represented the size standard as $500 million. The correct size standard was and is 1,500 employees. In the September 5, 2000, correction, SBA removed the dollar sign but overlooked correcting the numerical standard to 1,500 employees.

Justification for This Correction

SBA had proposed to adopt NAICS as a basis for size standards on October 22, 1999, (64 FR 57187-57286). In the proposed rule SBA set five guidelines for establishing size standards based on NAICS. The first guideline stated that if the NAICS industry were related to only one Standard Industrial Classification (SIC) system industry or to a part of one SIC industry, then the size standard would be the same for the NAICS industry as it was for the SIC industry.

The size standard for SIC 4011, Railroads, Line-Haul Operating, was 1,500 employees. NAICS 482111 is related to SIC 4011 in its entirety, and therefore, SBA's proposed rule applied the same 1,500 employee size standard to NAICS 482111. As stated above, there were errors that occurred in printing of the final rule, and SBA overlooked correcting this particular size standard.

SBA is therefore amending the published size standard for NAICS 482111 to 1,500 employees.

List of Subjects in 13 CFR Part 121

Administrative practice and procedure, Government procurement, Government property, Grant programs—business, Loan programs—business, Reporting and recordkeeping requirements, Small businesses.

For the reasons stated in the preamble, SBA corrects 13 CFR part 121 by making the following correcting amendment:

PART 121—SMALL BUSINESS SIZE REGULATIONS

1. The authority citation for part 121 continues to read as follows:

Authority: 15 U.S.C. 632(a), 634(b)(6), 637(a), 644(c), and 662(5); and Sec. 304, Pub. L. 103-403, 108 Stat. 4175, 4188.

2. In § 121.201, in the table “Small Business Size Standards by NAICS Industry,” under the heading Subsector 482—Rail Transportation, revise the entry for 482111 to read as follows:

§ 121.201 What size standards has SBA identified by North American Industry Classification System codes?

* * * * *

Small Business Size Standards by NAICS Industry
NAICS codes | Description (N.E.C. = Not Elsewhere Classified) | Size standard in number of employees or millions of dollars
* * * * * * *
Subsector 482—Rail Transportation
482111 | Line-Haul Railroads | 1,500

* * * * *

Gary M. Jackson,
Assistant Administrator for Size Standards.

[FR Doc. 02-9797 Filed 4-22-02; 8:45 am]

BILLING CODE 8025-01-P